DEPARTMENT OF COMMERCE

National Oceanic and Atmospheric Administration

[RTID 0648-XA876]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The Exempted Fishing Permit would allow four commercial surfclam and ocean quahog vessels to conduct at-sea paralytic shellfish poisoning testing in the Closed Area II scallop access area in statistical area 552. Regulations under the Magnuson-Stevens Fishery Conservation and Management Act require publication of this notification to provide interested parties the opportunity to comment on applications for proposed Exempted Fishing Permits.

DATES: Comments must be received on or before April 1, 2021.

ADDRESSES: You may submit written comments by the following method:

• Email: nmfs.gar.efp@noaa.gov. Include in the subject line “Sea Watch Surfclam EFP.”

FOR FURTHER INFORMATION CONTACT: Laura Hansen, Fishery Management Specialist, 978-281-9225, Laura.Hansen@noaa.gov.

SUPPLEMENTARY INFORMATION: Sea Watch is requesting exemption from the Georges Bank Closed Area specified at 50 CFR 648.76(a)(4). The proposed project would explore expansion of the area that is currently open to vessels that are certified for at-sea testing for paralytic shellfish poisoning (PSP).

This Exempted Fishing Permit (EFP) would allow four commercial surfclam and ocean quahog vessels, using hydraulic clam dredge gear, to conduct at-sea PSP testing in the Closed Area II scallop access area in statistical area 552. The participating vessels are already certified for at-sea testing and are currently operating the area that opened in George's Bank in 2012. Vessels would take 2 trips per week for a yearlong period, for a total of up to 416 trips. Each trip would be between two to four days. Vessels would land up to 4,800 bushels (169,148 L) of surfclams or ocean quahogs per trip. All landings would be handled under the current PSP protocol in place as mandated by the Food and Drug Administration and Interstate Shellfish Sanitation Conference. A positive PSP result from any one sample would deem the area unacceptable for harvest. The vessel Captain would immediately report all positive screening test results, by telephone or email, to the Authority within the intended State of landing, the Food and Drug Administration (FDA) Shellfish Specialist, and the processor. The FDA would notify NMFS and permitted vessels would stop fishing in the affected area(s).

Participating vessels would adhere to all seasonal groundfish closures in Closed Area II and would not retain any scallops while on EFP trips. Additionally, vessels must also adhere to all other requirements at 50 CFR 648.76(a)(4)(i).

If approved, Sea Watch may request minor modifications and extensions to the EFP throughout the study. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 11, 2021.
Jennifer M. Wallace,
Acting Director, Office of Sustainable Fisheries, National Marine Fisheries Service.

[FR Doc. 2021-05459 Filed 3-16-21; 8:45 am]

BILLING CODE 3510-22-P